DEPARTMENT OF AGRICULTURE

Food and Nutrition Service

Agency Information Collection Activities: Proposed Collection; Comment Request—Evaluation of the Quantity and Quality of Nutritional Information Available to School Food Authorities About Food Service Products and Commodities

AGENCY: Food and Nutrition Service (FNS), USDA.

ACTION: Notice.

SUMMARY: In accordance with the Paperwork Reduction Act of 1995, this notice invites the general public and other public agencies to comment on this proposed information collection. This collection is a new collection for evaluation of the quantity and quality of nutritional information available to school food authorities about food service products and commodities.

DATES: Written comments must be received on or before May 20, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Alexandra Lewin, Food and Nutrition Service, U.S. Department of Agriculture, 3101 Park Center Drive, Room 500, Alexandria, VA 22302. Comments may also be submitted via fax to the attention of Alexandra Lewin at 703-305-1410 or via e-mail to Alexandra.lewin@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 500, Alexandria, Virginia 22302.

All responses to this notice will be summarized and included in the request for Office of Management and Budget approval. All comments will be a matter of public record.

FOR FURTHER INFORMATION CONTACT: Requests for additional information or copies of this information collection should be directed to Alexandra Lewin at 703-305-2705.

SUPPLEMENTARY INFORMATION: Title: Evaluation of the Quantity and Quality of Nutritional Information Available to School Food Authorities about Food Service Products and Commodities.

OMB Number: [0584-NEW].

Expiration Date: [Not Yet Determined.]

Type of Request: [New Collection].

Abstract: The purpose of this evaluation is to fulfill the requirements of Section 242 of the Health, Hunger-Free Kids Act of 2010 (the Act). The Act amended Section 9(a)(4) of the Richard B. Russell National School Lunch Act, 42 U.S.C. 1758(a)(4), and requires the Secretary to, not later than 1 year after the date of enactment of the Act, carry out a study to analyze the quantity and quality of nutritional information available to school food authorities about food service products and commodities. In addition, the Secretary must also submit to Congress a report on the results of the study that contains such legislative recommendations as the Secretary considers necessary to ensure that school food authorities have access to the nutritional information needed for menu planning and compliance assessments within 1 year after enactment of the Act.

To conduct this study, FNS will work with our external partners, such as State agencies and the School Nutrition Association, to disseminate the survey to school foodservice professionals. The study will assess the quality and quantity of nutrition information available to school food authorities (SFAs) during both the ordering and delivery periods. The questions posed in the study will help FNS better understand purchasing decisions and will ultimately allow FNS to make recommendations to ensure SFAs can effectively and efficiently obtain accurate nutrition information needed for purchasing the widest variety of healthful foods, menu planning and undertaking compliance assessments.

Affected Public: State, Local and Tribal Government. Respondent groups identified include current school foodservice professionals sampled from across the United States.

Estimated Number of Respondents: Approximately 500 school foodservice professionals will participate in the benchmark survey as part of the study. This is based on an estimated completion rate with a previous FNS survey conducted through the School Nutrition Association's membership list.

Estimated Number of Responses per Respondent: The school foodservice professionals will be asked to respond to a survey once.

Estimated Total Annual Responses: 500 (500 respondents × 1 response).

Estimated Time per Response: .25 (the estimated time is approximately 15 minutes).

Estimated Total Annual Burden on Respondents: 5,000 minutes (125 hours). See the table below for estimated total annual burden for each type of respondent.

Respondent | Estimated number respondent | Responses annually per respondent | Total annual responses (col. b × c) | Estimated avg. number of hours per response | Estimated total hours (col. d × e)
Reporting Burden
School foodservice professionals | 500 | 1.00 | 500.00 | 0.25 | 125
Total Reporting Burden | 500 |  | 500.00 |  | 125

Dated: March 14, 2011.
Julia Paradis,
Administrator, Food and Nutrition Service.

[FR Doc. 2011-6494 Filed 3-18-11; 8:45 am]

BILLING CODE 3410-30-P